DEPARTMENT OF HEALTH AND HUMAN SERVICES

Office of the National Coordinator for Health Information Technology; HIT Standards Committee Meeting

ACTION: Announcement of meeting.

SUMMARY: This notice announces the second meeting of the HIT Standards Committee in accordance with the Federal Advisory Committee Act (Pub. L. No. 92-463, 5 U.S.C., App.).

DATES: June 23, 2009, from 9 a.m. to 12 p.m. [Eastern]

ADDRESSES: The Omni Shoreham Hotel, 2500 Calvert Street, NW., Washington, DC 20008, Diplomat Ballroom.

FOR FURTHER INFORMATION CONTACT: http://healthit.hhs.gov.

SUPPLEMENTARY INFORMATION: The meeting will include presentations from the HIT Standards Committee Workgroups. The meeting is a Web-based meeting with teleconference dial-in. If you have special needs for the meeting, please contact (202) 690-7151.

Judith Sparrow,
Office of Programs and Coordination, Office of the National Coordinator for Health Information Technology.

[FR Doc. E9-13630 Filed 6-9-09; 8:45 am]

BILLING CODE 4150-45-P